COMMISSION ON CIVIL RIGHTS

Agenda and Notice of Public Meeting of the Virginia Advisory Committee

Notice is hereby given, pursuant to the provisions of the rules and regulations of the U.S. Commission on Civil Rights, that a meeting of the Virginia Advisory Committee to the Commission will convene at 10:30 a.m. and adjourn at 1 p.m. on Thursday, April 27, 2000, at the State Capital Building, Senate Room 4, First Floor, 9th and Grace Streets, Richmond, Virginia 23219. The Committee will hold a press conference and panel briefing to mark the public release of its report, “Unequal Justice: African Americans in the Virginia Criminal Justice System.” Following questions by the news media, African American community leaders, commonwealth's attorneys and defense counselors, State legislators, the State attorney general and the governor will be invited to participate in a panel discussion on the report and related matters.

Persons desiring additional information, or planning a presentation to the Committee, should contact Ki-Taek Chun, Director of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated at Washington, DC, March 30, 2000.
Carol-Lee Hurley,
Chief, Regional Programs Coordination Unit.

[FR Doc. 00-8331 Filed 4-4-00; 8:45 am]

BILLING CODE 6335-01-P